DEPARTMENT OF COMMERCE

International Trade Administration

[A-533-810]

Stainless Steel Bar from India: Initiation of Antidumping New Shipper Review

AGENCY: Import Administration, International Trade Administration, Department of Commerce.

ACTION: Notice of initiation of antidumping new shipper review.

SUMMARY: The Department of Commerce has received a request to conduct a new shipper review of the antidumping duty order on stainless steel bar from India. In accordance with section 751(a)(2)(B) of the Tariff Act of 1930, as amended, and 19 CFR 351.214, we are initiating this new shipper review.

EFFECTIVE DATE: October 23, 2001.

FOR FURTHER INFORMATION CONTACT: Annika O'Hara or Cole Kyle, Import Administration, International Trade Administration, U.S. Department of Commerce, 14th Street and Constitution Avenue, NW., Washington, DC 20230; telephone (202) 482-3798 or (202) 482-1503, respectively.

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to 19 CFR part 351 (April 2001).

SUPPLEMENTARY INFORMATION:

Background

On July 25, 2001, the Department received a request from Uday Engineering Works (“Uday”), pursuant to section 751(a)(2)(B) of the Act and in accordance with 19 CFR 351.214(b), to conduct a new shipper review of the antidumping duty order on stainless steel bar from India. At the Department's direction, Uday amended its request for a new shipper review on September 20, 2001. This order has an August semi-annual anniversary month.

Initiation of Review

Pursuant to 19 CFR 351.214(b)(2)(iii), Uday certified in its July 25, 2001 request that it is not now and never has been affiliated with any exporter or producer who exported the subject merchandise to the United States during the period of investigation (“POI”) (July 1, 1993 through December 31, 1993). In its September 20, 2001 filing, Uday certified, pursuant to 19 CFR 351.214(b)(2)(i), that it did not export the subject merchandise to the United States during the POI. On September 20, 2001, Uday also submitted documentation establishing: (i) The date on which its stainless steel bar was first shipped for export to the United States; (ii) the volume of that shipment; and (iii) the date of the first sale to an unaffiliated customer in the United States.

In accordance with section 751(a)(2)(B) of the Act and 19 CFR 351.214, we are initiating a new shipper review of the antidumping duty order on stainless steel bar from India. In accordance with 19 CFR 351.214(h)(i), we intend to issue the preliminary results of this review not later than 180 days after the date on which the review is initiated. All provisions of 19 CFR 351.214 will apply to Uday throughout the duration of this new shipper review. The standard period of review (“POR”) in a new shipper review based on the semiannual anniversary month is the six month period immediately preceding the semiannual anniversary month, i.e. for the instant review, February 1 through July 31, 2001.

Concurrent with publication of this notice, and in accordance with 19 CFR 351.214(e), we will instruct the Customs Service to allow, at the option of the importer, the posting of a bond or security in lieu of a cash deposit for each entry of the merchandise exported by the company listed above, until the completion of the review.

Interested parties must submit applications for disclosure under administrative protective order in accordance with 19 CFR 351.305 and 351.306.

This initiation notice is in accordance with section 751(a) of the Act and 19 CFR 351.214.

Dated: October 17, 2001.
Richard W. Moreland,
Deputy Assistant Secretary for Import Administration.

[FR Doc. 01-26696 Filed 10-22-01; 8:45 am]

BILLING CODE 3510-DS-P